DEPARTMENT OF ENERGY

Federal Energy Regulatory Commission

Combined Notice of Filings

Take notice that the Commission has received the following Natural Gas Pipeline Rate and Refund Report filings:

Filings Instituting Proceedings

Docket Numbers: RP18-859-000.

Applicants: Colorado Interstate Gas Company, L.L.C.

Description: Colorado Interstate Gas Company, L.L.C. submits tariff filing per 154.403(d)(2): LUF Qtrly Filing to be effective 7/1/2018.

Filed Date: 5/31/18.

Accession Number: 20180531-5117.

Comments Due: 5 p.m. ET 6/12/18.

Docket Numbers: RP18-860-000.

Applicants: Kinder Morgan Louisiana Pipeline LLC.

Description: Kinder Morgan Louisiana Pipeline LLC submits tariff filing per 154.403: Periodic Rate Adjustment— 7/1/18 to be effective 7/1/2018.

Filed Date: 5/31/18.

Accession Number: 20180531-5179.

Comments Due: 5 p.m. ET 6/12/18.

Docket Numbers: RP18-861-000.

Applicants: Equitrans, L.P.

Description: Equitrans, L.P. submits tariff filing per 154.204: Scheduling Priority Exemption for Reservation Charge Credits to be effective 7/1/2018.

Filed Date: 5/31/18.

Accession Number: 20180531-5180.

Comments Due: 5 p.m. ET 6/12/18.

Docket Numbers: RP18-862-000.

Applicants: Ruby Pipeline, L.L.C.

Description: Ruby Pipeline, L.L.C. submits tariff filing per 154.403(d)(2): Filing to Update FLU and EPC to be effective 7/1/2018.

Filed Date: 5/31/18.

Accession Number: 20180531-5189.

Comments Due: 5 p.m. ET 6/12/18.

Docket Numbers: RP18-863-000.

Applicants: Discovery Gas Transmission LLC.

Description: Discovery Gas Transmission LLC submits tariff filing per 154.403(d)(2): 2018 FL&U Submittal to be effective 7/1/2018.

Filed Date: 5/31/18.

Accession Number: 20180531-5202.

Comments Due: 5 p.m. ET 6/12/18.

Docket Numbers: RP18-864-000.

Applicants: Kinder Morgan Louisiana Pipeline LLC.

Description: Kinder Morgan Louisiana Pipeline LLC submits tariff filing per 154.204: Amendment to Gas Quality Provision to be effective 7/1/2018.

Filed Date: 5/31/18.

Accession Number: 20180531-5211.

Comments Due: 5 p.m. ET 6/12/18.

Docket Numbers: RP18-865-000.

Applicants: Gulf South Pipeline Company, LP.

Description: Gulf South Pipeline Company, LP submits tariff filing per 154.204: Amendment to Neg Rate Agmt (Vicksburg 36347-4) to be effective 6/1/2018.

Filed Date: 5/31/18.

Accession Number: 20180531-5213.

Comments Due: 5 p.m. ET 6/12/18.

Docket Numbers: RP18-866-000.

Applicants: Gulf South Pipeline Company, LP.

Description: Gulf South Pipeline Company, LP submits tariff filing per 154.204: Cap Rel Neg Rate Agmt (Petrohawk 41455 to Sequent 49576 & Texla 49578) to be effective 6/1/2018.

Filed Date: 5/31/18.

Accession Number: 20180531-5216.

Comments Due: 5 p.m. ET 6/12/18.

Docket Numbers: RP18-867-000.

Applicants: Texas Gas Transmission, LLC.

Description: Texas Gas Transmission, LLC submits tariff filing per 154.204: Cap Rel Neg Rate Agmts (RE Gas 35433, 34955 to BP 37202, 37203) to be effective 6/1/2018.

Filed Date: 5/31/18.

Accession Number: 20180531-5217.

Comments Due: 5 p.m. ET 6/12/18.

Docket Numbers: RP18-868-000.

Applicants: Arlington Storage Company, LLC.

Description: Arlington Storage Company, LLC submits tariff filing per 154.204: Filing of Revised Tariff Records to be effective 6/4/2018.

Filed Date: 5/31/18.

Accession Number: 20180531-5227.

Comments Due: 5 p.m. ET 6/12/18.

Docket Numbers: RP18-869-000.

Applicants: Transcontinental Gas Pipe Line Company.

Description: Transcontinental Gas Pipe Line Company, LLC submits tariff filing per 154.204: Negotiated Rates—Cherokee AGL—Replacement Shippers—Jun 2018 to be effective 6/1/2018.

Filed Date: 5/31/18.

Accession Number: 20180531-5239.

Comments Due: 5 p.m. ET 6/12/18.

Docket Numbers: RP18-870-000.

Applicants: Garden Banks Gas Pipeline, LLC.

Description: Garden Banks Gas Pipeline, LLC submits tariff filing per 154.204: Auger Platform FT-2 Dedications to be effective 7/1/2018.

Filed Date: 5/31/18.

Accession Number: 20180531-5255.

Comments Due: 5 p.m. ET 6/12/18.

Docket Numbers: RP18-871-000.

Applicants: Tennessee Gas Pipeline Company, L.L.C.

Description: Tennessee Gas Pipeline Company, L.L.C. submits tariff filing per 154.204: KM Lease Charges to be effective 7/1/2018.

Filed Date: 5/31/18.

Accession Number: 20180531-5287.

Comments Due: 5 p.m. ET 6/12/18.

Docket Numbers: RP18-872-000.

Applicants: Tennessee Gas Pipeline Company, L.L.C.

Description: Tennessee Gas Pipeline Company, L.L.C. submits tariff filing per 154.204: Volume No. 2—Seneca Resources Corp—Amend No.2 SP315568 to be effective 6/1/2018.

Filed Date: 5/31/18.

Accession Number: 20180531-5288.

Comments Due: 5 p.m. ET 6/12/18.

Docket Numbers: RP18-873-000.

Applicants: Tallgrass Interstate Gas Transmission, L.

Description: Tallgrass Interstate Gas Transmission, LLC submits tariff filing per 154.204: NC 2018-05-31 CSU to be effective 6/1/2018.

Filed Date: 5/31/18.

Accession Number: 20180531-5298.

Comments Due: 5 p.m. ET 6/12/18.

Docket Numbers: RP18-874-000.

Applicants: Rockies Express Pipeline LLC.

Description: Rockies Express Pipeline LLC submits tariff filing per 154.204: Neg Rate 2018-05-31 ARM to be effective 6/1/2018.

Filed Date: 5/31/18.

Accession Number: 20180531-5322.

Comments Due: 5 p.m. ET 6/12/18.

Docket Numbers: RP18-875-000.

Applicants: El Paso Natural Gas Company, L.L.C.

Description: El Paso Natural Gas Company, L.L.C. submits tariff filing per 154.601: Negotiated Rate Agreement Update (Conoco June_Aug 18) to be effective 6/1/2018.

Filed Date: 5/31/18.

Accession Number: 20180531-5332.

Comments Due: 5 p.m. ET 6/12/18.

Docket Numbers: RP18-876-000.

Applicants: Rockies Express Pipeline LLC.

Description: Rockies Express Pipeline LLC submits tariff filing per 154.204: Neg Rate 2018-05-31 E2W to be effective 6/1/2018.

Filed Date: 5/31/18.

Accession Number: 20180531-5336.

Comments Due: 5 p.m. ET 6/12/18.

Docket Numbers: RP18-877-000.

Applicants: MoGas Pipeline LLC.

Description: MoGas Pipeline LLC submits tariff filing per 154.312: MoGas Section 4 Rate Filing to be effective 7/1/2018.

Filed Date: 5/31/18.

Accession Number: 20180531-5348.

Comments Due: 5 p.m. ET 6/12/18.

Docket Numbers: RP18-878-000.

Applicants: Northern Natural Gas Company.

Description: Northern Natural Gas Company submits tariff filing per 154.204: 20180531 Negotiated Rate to be effective 6/1/2018.

Filed Date: 5/31/18.

Accession Number: 20180531-5373.

Comments Due: 5 p.m. ET 6/12/18.

Docket Numbers: RP01-382-028.

Applicants: Northern Natural Gas Company.

Description: Northern Natural Gas Company submits Carlton Reimbursement Report under RP01-382.

Filed Date: 6/1/18.

Accession Number: 20180601-5219.

Comments Due: 5 p.m. ET 6/13/18.

Docket Numbers: RP18-879-000.

Applicants: Equitrans, L.P.

Description: Equitrans, L.P. submits tariff filing per 154.204: Negotiated Capacity Release Agreements—6/1/2018 to be effective 6/1/2018.

Filed Date: 6/1/18.

Accession Number: 20180601-5040.

Comments Due: 5 p.m. ET 6/13/18.

Docket Numbers: RP18-880-000.

Applicants: Viking Gas Transmission Company.

Description: Viking Gas Transmission Company submits tariff filing per 154.204: Interim Filing to Reduce FLRP—June 2018 to be effective 7/1/2018.

Filed Date: 6/1/18.

Accession Number: 20180601-5090.

Comments Due: 5 p.m. ET 6/13/18.

Docket Numbers: RP18-881-000.

Applicants: Gulf Crossing Pipeline Company LLC.

Description: Gulf Crossing Pipeline Company LLC submits tariff filing per 154.204: Cap Rel Neg Rate Agmts (Newfield 18 releases eff 6-1-2018) to be effective 6/1/2018.

Filed Date: 6/1/18.

Accession Number: 20180601-5145.

Comments Due: 5 p.m. ET 6/13/18.

Docket Numbers: RP18-882-000.

Applicants: Gulf South Pipeline Company, LP.

Description: Gulf South Pipeline Company, LP submits tariff filing per 154.204: Cap Rel Neg Rate Agmts (Atlanta Gas 8438 to various eff 6-1-2018) to be effective 6/1/2018.

Filed Date: 6/1/18.

Accession Number: 20180601-5147.

Comments Due: 5 p.m. ET 6/13/18.

Docket Numbers: RP18-883-000.

Applicants: Rockies Express Pipeline LLC.

Description: Rockies Express Pipeline LLC submits tariff filing per 154.204: Neg Rate 2018-06-01 Rice to EQT (3Ks) to be effective 6/1/2018.

Filed Date: 6/1/18.

Accession Number: 20180601-5149.

Comments Due: 5 p.m. ET 6/13/18.

Docket Numbers: RP18-884-000.

Applicants: ANR Pipeline Company.

Description: ANR Pipeline Company submits tariff filing per 154.601: ANR EQT Non-Conforming Amendments to be effective 6/1/2018.

Filed Date: 6/1/18.

Accession Number: 20180601-5217.

Comments Due: 5 p.m. ET 6/13/18.

Docket Numbers: RP18-885-000.

Applicants: Columbia Gas Transmission, LLC.

Description: Columbia Gas Transmission, LLC submits tariff filing per 154.601: TCO EQT Negotiated Rate Amendments to be effective 6/1/2018.

Filed Date: 6/1/18.

Accession Number: 20180601-5218.

Comments Due: 5 p.m. ET 6/13/18.

Docket Numbers: RP18-886-000.

Applicants: Enable Gas Transmission, LLC.

Description: Enable Gas Transmission, LLC submits tariff filing per 154.204: Negotiated Rate Filing—June 2018—Newfield 1011021 to be effective 6/1/2018.

Filed Date: 6/1/18.

Accession Number: 20180601-5239.

Comments Due: 5 p.m. ET 6/13/18.

Docket Numbers: RP18-887-000.

Applicants: Eastern Shore Natural Gas Company.

Description: Eastern Shore Natural Gas Company submits tariff filing per 154.204: Fuel Retention and Cash-Out Adjustment to be effective 7/1/2018.

Filed Date: 6/1/18.

Accession Number: 20180601-5276.

Comments Due: 5 p.m. ET 6/13/18.

Comments Due: 5 p.m. ET 6/18/18.

Docket Numbers: RP18-510-000.

Applicants: KPC Pipeline, LLC.

Description: KPC Pipeline, LLC submits Compliance Filing of Additional Information Concerning Proposed Fuel Reimbursement Percentage Rates under RP18-510.

Filed Date: 6/5/18.

Accession Number: 20180605-5166.

Comments Due: 5 p.m. ET 6/18/18.

Docket Numbers: RP18-889-000.

Applicants: Natural Gas Pipeline Company of America.

Description: Natural Gas Pipeline Company of America LLC submits tariff filing per 154.204: Tenaska Marketing Ventures Amendment to NRA Filing to be effective 6/5/2018.

Filed Date: 6/5/18.

Accession Number: 20180605-5000.

Comments Due: 5 p.m. ET 6/18/18.

Docket Numbers: RP18-890-000.

Applicants: Northwest Pipeline LLC.

Description: Northwest Pipeline LLC submits tariff filing per 154.204: Buy and Sell Gas to Support Flows for Inline Inspections Filing to be effective 7/5/2018.

Filed Date: 6/5/18.

Accession Number: 20180605-5078.

Comments Due: 5 p.m. ET 6/18/18.

Docket Numbers: RP18-891-000.

Applicants: Eastern Shore Natural Gas Company.

Description: Eastern Shore Natural Gas Company submits tariff filing per 154.204: Non-Conforming Letter Agreements-Easton/CUC-MD to be effective 6/5/2018.

Filed Date: 6/6/18.

Accession Number: 20180606-5000.

Comments Due: 5 p.m. ET 6/18/18.

Docket Numbers: RP15-517-001.

Applicants: Vector Pipeline L.P.

Description: Vector Pipeline L.P. submits tariff filing per 154.203: Negotiated Rate RP15-517 Compliance Filing to be effective 6/1/2018 under RP15-517.

Filed Date: 6/7/18.

Accession Number: 20180607-5033.

Comments Due: 5 p.m. ET 6/19/18.

Docket Numbers: RP18-789-000.

Applicants: Cheniere Corpus Christi Pipeline, LP.

Description: Cheniere Corpus Christi Pipeline, LP submits tariff filing per: Section 157.20(c)(2) Compliance in Docket Nos. CP12-508-000, et al.—Eff 6/1/18 to be effective N/A.

Filed Date: 6/7/18.

Accession Number: 20180607-5020.

Comments Due: 5 p.m. ET 6/19/18.

The filings are accessible in the Commission's eLibrary system by clicking on the links or querying the docket number.

Any person desiring to intervene or protest in any of the above proceedings must file accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2018.
Nathaniel J. Davis, Sr.,
Deputy Secretary.

[FR Doc. 2018-12665 Filed 6-12-18; 8:45 am]

BILLING CODE 6717-01-P